ENVIRONMENTAL PROTECTION AGENCY

[EPA-HQ-OLEM-2018-0392, FRL-9985-03-OEI]

Agency Information Collection Activities; Submission to OMB for Review and Approval; Comment Request; Requirements and Exemptions for Specific RCRA Wastes (Renewal)

AGENCY: Environmental Protection Agency.

ACTION: Notice.

SUMMARY: The Environmental Protection Agency (EPA) has submitted an information collection request (ICR), Requirements and Exemptions for Specific RCRA Wastes (EPA ICR Number 1597.13, OMB Control Number 2050-0145), to the Office of Management and Budget (OMB) for review and approval in accordance with the Paperwork Reduction Act. This is a proposed extension of the ICR, which is currently approved through October 31, 2018. Public comments were previously requested via the Federal Register on July 3, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 28, 2018.

ADDRESSES: Submit your comments, referencing Docket ID No. EPA-HQ-OLEM-2018-0392, FRL 9985-03-OEI, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Environmental Protection Agency, 1200 Pennsylvania Ave. NW, Washington, DC 20460; telephone number: 703-308-5477; fax number: 703-308-8433; email address: vyas.peggy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Universal Wastes, which include certain batteries, pesticides, mercury-containing lamps and thermostats, are generated in a variety of non-industrial settings present in non-hazardous waste management systems. Regulations at 40 CFR part 273, which govern the collection and management of Universal Wastes, are designed to ensure facilities collect these wastes and manage them in an appropriate hazardous waste management system. EPA collects notifications of Universal Waste management to obtain general information on handlers and to facilitate enforcement of the Part 273 regulations. EPA promulgated labeling and marking requirements and accumulation time limits to ensure that Universal Waste is being accumulated responsibly. EPA collects information on illegal Universal Waste shipments to enforce compliance with applicable regulations. Finally, EPA requires tracking of Universal Waste shipments to help ensure that Universal Waste is being properly treated, recycled, or disposed.

Regulations at 40 CFR part 266 provide increased flexibility to facilities managing wastes commonly known as “Mixed Waste.” Mixed Wastes are low-level mixed waste (LLMW) and naturally occurring and/or accelerator-produced radioactive material (NARM) containing hazardous waste, which are also regulated by the Atomic Energy Act. When specified eligibility criteria and conditions are met, LLMW and NARM are exempt from the definition of hazardous waste in Part 261. Although these wastes are exempt from RCRA manifest, transportation, and disposal requirements, facilities must still comply with the manifest, transportation, and disposal requirements under the Nuclear Regulatory Commission (NRC) regulations. Section 266.345(a) requires that generators or treaters notify EPA or the Authorized State that they are claiming the Transportation and Disposal Conditional Exemption prior to the initial shipment of a waste to a LLRW disposal facility. This exemption notice provides a tool for RCRA program regulatory agencies to become aware of the generator's exemption claims. The information contained in the notification package provides the RCRA program regulatory agencies with a general understanding of the claimant. This information also allows the agencies to document the generator's exemption status and to plan inspections and review exemption-related records.

Regulations at 40 CFR part 279, which codify used oil management standards, establish, among other things, streamlined procedures for notification, testing, labeling, and recordkeeping. They also establish a flexible self-implementing approach for tracking off-site shipments that allow used oil handlers to use standard business practices (e.g., invoices, bill of lading). In addition, part 279 sets standards for the prevention and cleanup of releases to the environment during storage and transit. These requirements minimize potential mismanagement of used oils, while not discouraging recycling. Used oil transporters must comply with all applicable packaging, labeling, and placarding requirements of 49 CFR parts 173, 178, and 179 and must report discharges of used oil according to existing 49 CFR part 171 and 33 CFR part 153 requirements.

Form numbers: None.

Respondents/affected entities: Private Sector and State, Local, or Tribal Governments.

Respondent's obligation to respond: Mandatory (40 CFR part 273), required to obtain or retain a benefit (40 CFR parts 266 and 279).

Estimated number of respondents: 141,038.

Frequency of response: On occasion.

Total estimated burden: 791,715 hours per year. Burden is defined at 5 CFR 1320.03(b).

Total estimated cost: $68,980,149 (per year), includes $14,161,065 annualized capital or operation & maintenance costs.

Changes in the estimates: There is an increase in the total estimated respondent burden compared with the ICR currently approved by OMB. This increase is an increase in the number of respondents.

Courtney Kerwin,
Director, Regulatory Support Division.

[FR Doc. 2018-23556 Filed 10-26-18; 8:45 am]

BILLING CODE 6560-50-P